DEPARTMENT OF TRANSPORTATION

Federal Transit Administration

Intent To Prepare an Environmental Impact Statement for the Proposed Exposition Corridor Light Rail Transit Project Phase 2

AGENCY: Federal Transit Administration, DOT.

ACTION: Notice of Intent to Prepare an Environmental Impact Statement.

SUMMARY: The Federal Transit Administration (FTA) and the Exposition Metro Line Construction Authority (Authority), in cooperation with the Los Angeles County Metropolitan Transportation Authority (LACMTA), intend to prepare an Environmental Impact Statement (EIS) on the proposed Phase 2 of the Exposition Corridor Light Rail Transit Project. Phase 2 would extend from the current planned terminus of the Exposition Corridor Light Rail Transit Project Phase 1 in Culver City, California, approximately 6 to 8 miles to an end-of-line station near 5th Street and Colorado Boulevard in Santa Monica, California. The EIS will be prepared in accordance with the requirements of the National Environmental Policy Act (NEPA) and its implementing regulations. The purpose of this notice is to alert interested parties regarding the intent to prepare the EIS, to provide information on the nature of the proposed project and possible alternatives, to invite public participation in the EIS process, including comments on the scope of the EIS proposed in this notice, to announce that public scoping meetings will be conducted, and to identify participating agency contacts.

DATES: Written comments on the scope of the EIS, including the alternatives to be considered and the impacts to be assessed, should be sent to the Authority on or before April 2, 2007. See ADDRESSES below for the address to which written comments may be sent. Public scoping meetings to accept comments on the scope of the EIS will be held on the following dates:

• Tuesday, February 27, 2007, from 6:30 p.m. to 8:30 p.m. Culver City Senior Center, Room B45, 4095 Overland Avenue, Culver City, CA 90232.

• Wednesday, February 28, 2007, from 6:30 p.m. to 8:30 p.m. Hamilton High School Cafeteria, 2955 South Robertson Blvd., Los Angeles, CA 90034.

• Tuesday, March 6, 2007, from 6:30 p.m. to 8:30 p.m. Santa Monica Civic Auditorium, East Wing Meeting Room, 1855 Main Street, Santa Monica, CA 90401.

The project's purpose and need and the initial set of alternatives proposed for study will be presented at these meetings. The buildings used for the scoping meetings are accessible to persons with disabilities. Any individual who requires special assistance, such as a sign language interpreter, to participate in a scoping meeting should contact Ms. Genetha Eddins, Exposition Metro Line Construction Authority at (213) 243-5506 or geddins@exporail.net.

Scoping materials will be available at the meetings and are available by clicking on the Phase 2 tab on the project's Web site at http://www.buildexpo.org. Hard copies of the scoping materials are available from Mr. Joel Sandberg whose contact information is given in ADDRESSES below. An interagency scoping meeting or conference call will be scheduled after agencies with an interest in the proposed project have been identified.

ADDRESSES: Written comments should be sent to Mr. Joel Sandberg, P.E., Project Manager, Exposition Metro Line Construction Authority, 707 Wilshire Blvd., Suite 3400, Los Angeles, California 90017, phone (213) 922-3976, fax (213) 243-5553, e-mail jsandberg@exporail.net. The locations of the public scoping meetings are given above under DATES.

FOR FURTHER INFORMATION CONTACT: Mr. Ray Tellis, Federal Transit Administration, 888 South Figueroa Street, Suite 1850, Los Angeles, CA 90017, phone (312) 202-3950, e-mail ray.tellis@dot.gov.

SUPPLEMENTARY INFORMATION:

Scoping

The FTA and the Authority invite all interested individuals and organizations, public agencies, and Native American Tribes to comment on the scope of the EIS, including the project's purpose and need, the alternative to be studies, and the impacts to be evaluated. Comments should focus on the purpose and need for the proposed project; alternatives that may be less costly or have less environmental or community impacts while achieving similar transportation objectives; and the identification of any significant social, economic, or environmental issues relating to the alternatives.

Purpose and Need for the Project

The project purpose is to improve public transit service in the Exposition Corridor between Culver City and Santa Monica. The overall goal of the proposed project is to improve mobility in the Exposition Corridor between downtown Los Angeles and Santa Monica by extending the mobility benefits of the Phase 1 project beyond the currently planned terminus in Culver City. Mobility issues in this corridor have been well documented in the many studies that have analyzed transportation on the Westside and in the 2004 Regional Transportation Plan. Additional considerations supporting the project's need include:

• The major concentration of activity centers and destinations in the Exposition corridor.

• The “Centers Concept” Land Use Policy in the Los Angeles Basin supporting the development of high capacity transit corridors connecting the Centers including Santa Monica, Culver City and downtown Los Angeles.

• The existing concentration of transit-supportive land use in the Exposition corridor.

• The high population and employment densities in the Exposition corridor.

• Local redevelopment plans that are highly supportive of, and dependent on, high capacity transit in the Exposition corridor.

• History of strong patronage of the currently available transit service in the Exposition corridor.

• Significant transit-dependent population in the Exposition corridor.

• Significant planned future population and employment growth in the Exposition corridor.

• Existing and future travel demand patterns demonstrating a strong and growing demand for high-capacity transit in the Exposition corridor.

• Local policy direction oriented toward travel demand management and transit solutions rather than the expansion of the roadway network.

The public and participating agencies are invited to consider and comment on this preliminary statement of the purpose and need for the proposed project. Comments will be given serious consideration.

Alternatives

The Exposition Light Rail Corridor Project Phase 2 proposes to extend transit from the terminus of the Exposition Light Rail Corridor Project Phase 1 at the Venice/Robertson station to a terminus in Santa Monica. The project generally follows an abandoned railroad right-of-way (ROW) that was purchased by LACMTA in 1990.

There Are Two Primary Alignment Alternatives Being Considered

The Exposition ROW Alignment alternative follows the ROW for the full distance from the current terminus of the Exposition Light Rail Transit Project Phase 1 at Venice/Robertson Station in the City of Culver City to 5th and Colorado in the City of Santa Monica, except for a one-mile segment at the western end where the right-of-way ends and the alignment would follow existing city streets and the edge of the I-10 Santa Monica Freeway to reach the proposed terminus station in Santa Monica. The alignment is approximately 6.9 miles in length.

The Exposition ROW/Venice/Sepulveda Alignment alternative diverts from the rail right-of-way at the Venice/Robertson station (the terminus of Phase 1) and follows Venice Boulevard to Sepulveda Boulevard where it turns north to rejoin the Rail ROW at approximately the I-405 San Diego Freeway. This alternative alignment also diverts from the ROW for one-mile segment at the western end where the right-of-way ends and the alignment would follow existing city streets and the edge of the I-10 Santa Monica Freeway to reach the proposed terminus station in Santa Monica. This alignment is approximately 7.8 miles in length.

Transit Alternatives To Be Considered Include

Light Rail Transit in the Exposition ROW Alignment—This alternative proposes light rail transit in the Exposition ROW as described above. Possible station sites have been identified at Motor, Overland, Sepulveda, Pico/Sawtelle, Bundy, 26th/Cloverfield and 5th/Colorado.

Light Rail Transit in the Exposition ROW/Venice/Sepulveda Alignment—This alternative proposes light trail transit in the Exposition ROW/Venice/Sepulveda alignment as described above. Possible station sites have been identified at, Venice/Overland, Venice/Sepulveda, Sepulveda/National, Pico/Sawtelle, Bundy, 26th Cloverfield and 5th/Colorado.

Bus Rapid Transit in the Exposition ROW Alignment—This alternative would utilize bus rapid transit in the Exposition ROW alignment as described above. The busway would be located within an abandoned rail right-of-way. At the end of the exclusive right-of-way at Olympic Boulevard in Santa Monica the bus service would operate along Olympic Boulevard, 17th Street, and Colorado Boulevard until reaching its terminus at 5th and Colorado in the City of Santa Monica. Possible station sites have been identified at Motor, Overland, Sepulveda, Pico/Sawtelle, Bundy, 26th/ Cloverfield and 5th/Colorado.

No-Build Alternative—This alternative includes only “committed” improvements—typically those in the annual element of the Transportation Improvement Program or local capital programs—together with minor transit service expansions and/or adjustments that reflects a continuation of existing service policies. This alternative will include committed transportation improvements such as the completion of the Metro Rapid Bus Program by 2008 and possible additional feeder bus networks to serve major activity centers on the Westside.

Transportation System Management Alternative (TSM)—The TSM alternative enhances the No-Build Alternative and emphasizes transportation system upgrade such as intersection improvements, minor road widening, traffic engineering actions, bus route restructuring, shortened bus headways, expanded use of articulated buses, reserved bus lanes, contra-flow lanes for buses and High Occupancy Vehicles (HOVs) on freeways, special bus ramps on freeways, expanded park/ride facilities, express and limited-stop service, signalization improvements, and timed-transfer operations.

In addition to the above described alternatives, others identified through the scoping process will be evaluated for potential inclusion in the Draft Environmental Impact Statement. Because of the sensitive adjacent land uses located in many parts of this corridor, all alternatives will need to consider a full range of design and mitigation solutions to enlist the support of local communities for the completion of this line.

Probable Effects

The purpose of the EIS process is to explore in a public setting the effects of the proposed project and its alternatives on the physical, human, and natural environment. The FTA and the Authority will evaluate all significant environmental, social, and economic impacts of the construction and operation of the proposed project. Impact areas to be addressed include: The transportation impacts; land use, zoning, and economic development; secondary development; land acquisition, displacements, and relocations; cultural resource impacts, including impacts on historical and archaeological resources and parklands/recreation areas; neighborhood compatibility and environmental justice; natural resource impacts including air quality, wetlands, water resources, noise, vibration; energy use; safety and security; wildlife and ecosystems, including endangered species. Measures to avoid, minimize, and mitigate all adverse impacts will be identified and evaluated.

FTA Procedures

The regulations implementing NEPA, as well as provisions of the Safe, Accountable, Flexible, Efficient Transportation Equity Act: A Legacy for Users (SAFETEA-LU), call for public involvement in the EIS process. Section 6002 of SAFETEAU-LU requires that FTA and the Authority do the following: (1) Extend an invitation to other Federal and non-Federal agencies and Indian tribes that may have an interest in the proposed project to become “participating agencies,” (2) provide an opportunity for involvement by participating agencies and the public in helping to define the purpose and need for a proposed project, as well as the range of alternatives for consideration in the EIS, and (3) establish a plan for coordinating public and agency participation in, and comment on, the environmental review process. An invitation to become a participating agency, with the scoping materials appended, will be extended to other Federal and non-Federal agencies and Native American tribes that may have an interest in the proposed project. It is possible that FTA and the Authority will not be able to identify all Federal and non-Federal agencies and tribes that may have such an interest. Any Federal or non-Federal agency or tribe interested in the proposed project that does not receive an invitation to become a participating agency should notify at the earliest opportunity the Project Manager identified above under ADDRESSES.

A comprehensive public involvement program will be developed and a Coordination Plan for public and interagency involvement will be created and posted under the Phase 2 tab on the project Web site at http://www.buildexpro.org. The public involvement program includes a full range of involvement activities including a project Web site; outreach to local officials, community and civic groups, and the public; and development and distribution of project newsletters. Specific mechanisms for involvement will be detailed in the public involvement program.

The Authority may seek New Starts funding for the proposed under 49 U.S.C. 5309 and will therefore be subject to New Starts regulations (49 CFR Part 611). The New Starts regulation requires a planning Alternatives Analysis that leads to the selection of a locally preferred alternative and the inclusion of the locally preferred alternative as part of the long-range transportation plan adopted by the Southern California Association of Governments. The Authority plans to use the Draft EIS as the planning Alternatives Analysis. The New Starts regulation also requires the submission of certain project-justification information in support of a request to initiate preliminary engineering, and this information is normally developed in conjunction with the NEPA process. Pertinent New Starts evaluation criteria will be included in the Final EIS.

The EIS will be prepared in accordance with NEPA and its implementing regulations issued by the Council on Environmental Quality (40 CFR parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324), the project-level air quality conformity regulation of the U.S. Environmental Protection Agency (EPA) (40 CFR part 93), the Section 404(b)(1) guidelines of EPA (40 CFR part 230), the regulation implementing Section 106 of the National Historic Preservation Act (36 CFR Part 800), the regulation implementing section 7 of the Endangered Species Act (50 CFR part 402), Section 4(f) of the Department of Transportation Act (23 CFR 771.135), and Executive Orders 12898 on environmental justice, 11988 on floodplain management, and 11990 on wetlands.

Issued on February 5, 2007.
Leslie T. Rogers,
Regional Administrator, Region IX, Federal Transit Administration.

[FR Doc. 07-609 Filed 2-9-07; 8:45 am]

BILLING CODE 4910-57-M